DEPARTMENT OF ENERGY

Federal Energy Regulatory Commission

[Project No. 8961-004]

Lowline Rapids, LLC, Twin Falls Canal Company; Notice of Transfer of Exemption

1. On November 30, 2022, Lowline Rapids, LLC, exemptee for the 2,800-kilowatt Lower Low Line Hydroelectric Project No. 8961, filed a letter notifying the Commission that the project was transferred from Lowline Rapids, LLC to Twin Falls Canal Company. The exemption from licensing was originally issued on April 16, 1986.¹ The project is located on the Low Line Canal, Twin Falls County, Idaho. The transfer of an exemption does not require Commission approval.

¹ Twin Falls Canal Company, 35 FERC ¶ 62,104 (1986). By a Notice of Transfer of Exemption issued May 19, 2015, the project was transferred to Lowline Rapids, LLC.

2. The Twin Falls Canal Company is now the exemptee of the Lower Low Line Hydroelectric Project No. 8961. All correspondence must be forwarded to Mr. Jay Barlogi, General Manager, Twin Falls Canal Company, 357 6th Avenue West, P.O. Box 326, Twin Falls, Idaho 83303, Phone: (208) 733-6731, Email: jbarlogi@tfcanal.com.

Dated: January 26, 2023.
Debbie-Anne A. Reese,
Deputy Secretary.

[FR Doc. 2023-02090 Filed 1-31-23; 8:45 am]

BILLING CODE 6717-01-P